DEPARTMENT OF COMMERCE

National Oceanic and Atmospheric Administration

RIN 0648-XD431

Marine Recreational Fisheries of the United States; Southeast Data, Assessment, and Review (SEDAR); Public Meetings

AGENCY: National Marine Fisheries Service (NMFS), National Oceanic and Atmospheric Administration (NOAA), Commerce.

ACTION: Notice of Marine Recreational Information Program (MRIP) Calibration Workshop.

SUMMARY: SEDAR and NOAA Fisheries Service will convene a workshop to consider calibration methods for recent changes in methods employed by MRIP for estimating marine recreational fisheries harvest. See SUPPLEMENTARY INFORMATION.

DATES: The meetings will be held from 1 p.m. to 6 p.m. on September 8, 2014; 8:30 a.m. to 6 p.m. on September 9, 2014, and 8:30 a.m. to 12 p.m. on September 10, 2014. See SUPPLEMENTARY INFORMATION.

ADDRESSES: The MRIP Calibration Workshop will be held at the Crowne Plaza Airport Hotel, 4831 Tanger Outlet Boulevard, North Charleston, SC 29418; telephone: (800) 503-5762 or (843) 744-4422; fax: (843) 744-4472.

SEDAR address: SEDAR, South Atlantic Fishery Management Council, 4055 Faber Place Drive, Suite 201, N. Charleston, SC 29405.

FOR FURTHER INFORMATION CONTACT: John Carmichael, Science and Statistics Program Manager, 4055 Faber Place Drive, Suite 201, North Charleston, SC 29405; telephone: (843) 571-4366.

SUPPLEMENTARY INFORMATION: The following items will be discussed during this meeting.

1 p.m. Monday, September 8, 2014-12 p.m. Wednesday, September 10, 2014:

1. Review methods and results of MRIP Calibration Workshop I.

2. Review MRIP Pilot Study of new Access Point Angler Intercept Survey (APAIS) sampling design.

3. Review 2013-14 Coastwide Implementation of New APAIS design.

4. Review Analytical methods used to evaluate APAIS design change effects on MRIP catch statistics.

5. Review of analytical results for Gulf red snapper and selected additional species stocks.

6. Consideration of other possible analytical approaches.

7. Assessment of possible methods for calibrating pre-2013 MRIP catch statistics.

8. Testing of alternative calibration approaches.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to the South Atlantic Council office, 4055 Faber Place Drive, Suite 201, North Charleston, SC 29405; telephone: (843) 571-4366, at least 5 business days prior to the workshop.

Dated: August 18, 2014.
Tracey L. Thompson,
Acting Deputy Director, Office of Sustainable Fisheries, National Marine Fisheries Service.

[FR Doc. 2014-19852 Filed 8-20-14; 8:45 am]

BILLING CODE 3510-22-P